DEPARTMENT OF HOMELAND SECURITY

Federal Emergency Management Agency

[Docket ID FEMA-2007-0008]

National Advisory Council; Meeting

AGENCY: Federal Emergency Management Agency, Department of Homeland Security.

ACTION: Notice of open Federal advisory committee meeting.

SUMMARY: The Federal Emergency Management Agency's National Advisory Council (NAC) will meet on Feb. 12, 2025, to publicly consider, deliberate, and vote upon draft recommendations by the NAC's Planning for Animal Wellness (PAW) Subcommittee. The meeting will be open to the public through virtual means and, space permitting, to in-person attendance requests.

DATES: The NAC plans to meet and invites the public to observe and participate by virtual means or in-person attendance from 1:30 to 4 p.m. eastern time (ET) on Wednesday, Feb. 12, 2025. The meeting may pause for breaks and can continue past the scheduled end time or may end early when the NAC has completed its business.

ADDRESSES: Anyone who wishes to participate must register with FEMA in advance by providing their name, official title, organization, telephone number, email address and desired attendance means to the person listed in the FOR FURTHER INFORMATION CONTACT section below by 3 p.m. ET on Friday, Feb. 7, 2025. Links to attend by virtual means will be provided by registration confirmation email. Members of the public are urged to provide written comments on the issues to be considered by the NAC. The topic areas are indicated in the SUPPLEMENTARY INFORMATION section below. Any written comments must be submitted and received by 3 p.m. ET on Friday, Feb. 7, 2025, identified by Docket ID FEMA-2007-0008, and submitted via the Federal eRulemaking Portal at https://www.regulations.gov, following the instructions for submitting comments below.

Instructions for Submitting Comments: All submissions must include the words “Federal Emergency Management Agency” and the docket number (Docket ID FEMA-2007-0008) for this action. Comments received, including any personal information provided, will be posted without alteration at https://www.regulations.gov. Therefore, submitting this information makes it public. You may wish to read the Privacy and Security Notice that is available via a link on the homepage at https://www.regulations.gov. For access to the docket or to read comments received by the NAC, go to https://www.regulations.gov, and search for Docket ID FEMA-2007-0008.

The open public comment period is anticipated on Wednesday, Feb. 12, 2025, from 2:15 to 2:45 p.m. ET. All speakers must register in advance of the meeting to make remarks during the open public comment period and must limit their comments to three minutes. Comments should be addressed to the NAC. Any comments unrelated to the agenda topics will not be considered. Additional opportunities for public comments during meeting deliberations and voting, limited to one minute per instance and directed to the current topic, may be offered by the Designated Federal Officer as time permits. To register to make remarks during the public comment period, contact the person listed in the FOR FURTHER INFORMATION CONTACT section below by 3 p.m. ET on Friday, Feb. 7, 2025. Please note that the public comment periods may end before the time indicated, following the last call for comments.

The NAC is committed to ensuring all participants have equal access regardless of disability status. If you require a reasonable accommodation due to a disability to fully participate, please contact the individual listed in the FOR FURTHER INFORMATION CONTACT section below as soon as possible. Last-minute requests will be accepted but may not be possible to fulfill.

FOR FURTHER INFORMATION CONTACT: Dawn Essenmacher, Alternate Designated Federal Officer, Office of the National Advisory Council, Federal Emergency Management Agency, 500 C St. SW, Washington, DC 20472-3184, 202-212-3026, FEMA-PAW-Act@fema.dhs.gov. The NAC PAW Subcommittee website is https://www.fema.gov/about/offices/national-advisory-council/subcommittees.

SUPPLEMENTARY INFORMATION: Notice of this meeting is given under the Federal Advisory Committee Act, 5 U.S.C. ch. 10.

The NAC advises the FEMA Administrator on all aspects of emergency management. The NAC incorporates input from state, local, Tribal, and territorial governments, and the private sector in the development and revision of FEMA plans and strategies. The NAC includes a cross-section of officials, emergency managers, and emergency response providers from state, local, Tribal, and territorial governments, the private sector, and nongovernmental organizations. The Planning for Animal Wellness (PAW) Act was signed into law on October 17, 2022. The PAW Act requires, the Administrator of the Federal Emergency Management Agency (FEMA) to establish a working group relating to best practices and Federal guidance for animals in emergencies and disasters, among other things.

Agenda: On Wednesday, Feb. 12, 2025, the PAW Subcommittee under the NAC will present to the full NAC membership its final recommendations on best practices and FEMA guidance regarding congregate and non-congregate sheltering and evacuation planning relating to the needs of household pets, service and assistance animals, and captive animals, as appropriate, in emergency and disaster preparedness, response, and recovery. Additionally, the NAC will deliberate and vote on recommendations from the PAW Subcommittee.

The full agenda and available preparatory materials for this meeting will be available at https://www.fema.gov/about/offices/national-advisory-council by Friday, Feb. 7, 2025, or by contacting the person listed in the FOR FURTHER INFORMATION CONTACT section.

Deanne Criswell,
Administrator, Federal Emergency Management Agency.

[FR Doc. 2025-00489 Filed 1-10-25; 8:45 am]

BILLING CODE 9111-24-P